DEPARTMENT OF COMMERCE

National Oceanic and Atmospheric Administration

[I.D. 122303C]

Pacific Fishery Management Council; Public Meeting

AGENCY: National Marine Fisheries Service (NMFS), National Oceanic and Atmospheric Administration (NOAA), Commerce.

ACTION: Notice of public meeting.

SUMMARY: The Pacific Fishery Management Council's (Council) Groundfish Management Team (GMT) will hold a work planning session which is open to the public.

DATES: The meeting will be held on Wednesday, January 14, 2004 is scheduled as a full day training opportunity for GMT members beginning at 8 a.m. The GMT session will reconvene from 8 a.m. to 5 p.m. Thursday, January 15 and 8 a.m. through noon Friday, January 16, 2004.

ADDRESSES: The meeting will be held at the Scipps Institution of Oceanography Campus Martin Johnson House, Building T-29, 8840 Biological Grade, La Jolla, CA 92037-1508; telephone: (858) 534-2102.

Council address: Pacific Fishery Management Council, 7700 NE Ambassador Place, Suite 200, Portland, OR 97220-1384.

FOR FURTHER INFORMATION CONTACT: Mr. John DeVore, Groundfish Staff Officer; telephone: (503) 820-2280.

SUPPLEMENTARY INFORMATION: The primary goal of the work planning exercise is to identify team members who will be responsible for the requisite GMT work products for development of the 2005-06 management measures. Harvest specifications and management measures for 2005-06 will not be discussed at this meeting. The GMT will consider the 2005-06 management measures at a subsequent public meeting tentatively scheduled for February, 2004.

Although non-emergency issues not contained in this agenda may come before the GMT for discussion, those issues may not be the subject of formal GMT action during this meeting. GMT action will be restricted to those issues specifically listed in this notice and any issues arising after publication of this notice that require emergency action under Section 305(c) of the Magnuson-Stevens Fishery Conservation and Management Act, provided the public has been notified of the GMT's intent to take final action to address the emergency.

Special Accommodations

The meeting is physically accessible to people with disabilities. Requests for sign language interpretation or other auxiliary aids should be directed to Ms. Carolyn Porter at (503) 820-2280 at least 5 days prior to the meeting date.

Dated: December 23, 2003.
Richard W. Surdi,
Acting Director, Office of Sustainable Fisheries, National Marine Fisheries Service.

[FR Doc. E3-00663 Filed 12-30-03; 8:45 am]

BILLING CODE 3510-22-S